DEPARTMENT OF COMMERCE

National Oceanic and Atmospheric Administration

RIN 0648-XF322

South Atlantic Fishery Management Council; Public Meetings

AGENCY: National Marine Fisheries Service (NMFS), National Oceanic and Atmospheric Administration (NOAA), Commerce.

ACTION: Notice of a public hearing.

SUMMARY: The South Atlantic Fishery Management Council (Council) will hold a public hearing via webinar pertaining to Regulatory Amendment 4 to the Spiny Lobster Fishery Management Plan (FMP) for the Gulf of Mexico and South Atlantic Region. The amendment addresses updates to biological parameters for spiny lobster in the Gulf of Mexico and South Atlantic, and a prohibition on traps for recreational harvest of spiny lobster in the South Atlantic Economic Exclusive Zone (EEZ).

DATES: The public hearing will be held via webinar May 9, 2017.

ADDRESSES: Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The public hearing will be conducted via webinar accessible via the Internet from the Council's Web site at www.safmc.net. The hearing will begin at 6 p.m. Eastern Standard Time. Registration for the webinar is required. Registration information and public hearing materials will be posted on the Council's Web site at http://safmc.net/safmc-meetings/public-hearing-and-scoping-meeting-schedule/ by April 25, 2017.

During the webinar, Council staff will present an overview of the amendment and will be available for informal discussions and to answer questions via webinar. Members of the public will also have the opportunity to provide formal comments for consideration by the Council.

Spiny Lobster Regulatory Amendment 4 contains actions to update management benchmarks for spiny lobster in the Gulf of Mexico and South Atlantic including the overfishing level (OFL), annual catch limit (ACL), and annual catch target (ACT) based on new scientific recommendations. The amendment also includes an action to prohibit the use of traps for recreational harvest of spiny lobster in the South Atlantic EEZ. All comments received will be provided to the South Atlantic Council and the Gulf of Mexico Council, and included in the administrative record. Written comments may also be submitted online at: http://gulfcouncil.org/council_meetings/comment_forms/Spiny%20Lobster%20Regulatory%20Amendment%204.php.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: March 29, 2017.
Tracey L. Thompson,
Acting Deputy Director, Office of Sustainable Fisheries, National Marine Fisheries Service.

[FR Doc. 2017-06465 Filed 3-31-17; 8:45 am]

BILLING CODE 3510-22-P